DEPARTMENT OF ENERGY

Federal Energy Regulatory Commission

Combined Notice of Filings

Take notice that the Commission has received the following Natural Gas Pipeline Rate and Refund Report filings:

Filings Instituting Proceedings

Docket Number: PR18-4-000.

Applicants: Alpine High Pipeline LLC.

Description: Tariff filing per 284.123(b), (e)/: Petition for NGPA Section 311 Rate Approval to be effective 9/26/2017; Filing Type: 990.

Filed Date: 10/26/17.

Accession Number: 201710265245.

Comments/Protests Due: 5 p.m. ET 11/16/17.

Docket Number: PR18-5-000.

Applicants: American Midstream (Bamagas Intrastate), LLC.

Description: Tariff filing per 284.123(b), (e)/: Blanket Certificate Order SoC to be effective 10/27/2017; Filing Type: 980.

Filed Date: 10/27/17.

Accession Number: 201710275192.

Comments/Protests Due: 5 p.m. ET 11/17/17.

Docket Numbers: RP18-121-000.

Applicants: ANR Pipeline Company.

Description: § 4(d) Rate Filing: Negotiated Rate Amendments to be effective 11/1/2017.

Filed Date: 11/1/17.

Accession Number: 20171101-5074.

Comments Due: 5 p.m. ET 11/13/17.

Docket Numbers: RP18-122-000.

Applicants: Great Lakes Gas Transmission Limited Partnership.

Description: § 4(d) Rate Filing: GLGT Negotiated Rate Agreement Filing to be effective 11/1/2017.

Filed Date: 11/1/17.

Accession Number: 20171101-5076.

Comments Due: 5 p.m. ET 11/13/17.

Docket Numbers: RP18-123-000.

Applicants: Northern Border Pipeline Company.

Description: § 4(d) Rate Filing: Sequent Energy Neg Rate Agmts to be effective 11/1/2017.

Filed Date: 11/1/17.

Accession Number: 20171101-5078.

Comments Due: 5 p.m. ET 11/13/17.

Docket Numbers: RP18-124-000.

Applicants: Columbia Gas Transmission, LLC.

Description: § 4(d) Rate Filing: OTRA—Winter 2017 to be effective 12/1/2017.

Filed Date: 11/1/17.

Accession Number: 20171101-5079.

Comments Due: 5 p.m. ET 11/13/17.

Docket Numbers: RP18-125-000.

Applicants: Texas Gas Transmission, LLC.

Description: § 4(d) Rate Filing: Cap Rel Neg Rate Agmts (Gulfport 34939, 35446 to various eff 11/1/17) to be effective 11/1/2017.

Filed Date: 11/1/17.

Accession Number: 20171101-5096.

Comments Due: 5 p.m. ET 11/13/17.

Docket Numbers: RP18-126-000.

Applicants: Texas Gas Transmission, LLC.

Description: § 4(d) Rate Filing: Cap Rel Neg Rate Agmt (BHP 31591 to Tenaska 36709) to be effective 11/1/2017.

Filed Date: 11/1/17.

Accession Number: 20171101-5097.

Comments Due: 5 p.m. ET 11/13/17.

Docket Numbers: RP18-127-000.

Applicants: Natural Gas Pipeline Company of America.

Description: § 4(d) Rate Filing: Amendment to Sabine Pass Liquefaction Negotiated Rate to be effective 11/1/2017.

Filed Date: 11/1/17.

Accession Number: 20171101-5100.

Comments Due: 5 p.m. ET 11/13/17.

Docket Numbers: RP18-128-000.

Applicants: Algonquin Gas Transmission, LLC.

Description: § 4(d) Rate Filing: Negotiated Rates—ConEd Ramapo releases 2 eff 11-1-2017 to be effective 11/1/2017.

Filed Date: 11/1/17.

Accession Number: 20171101-5102.

Comments Due: 5 p.m. ET 11/13/17.

Docket Numbers: RP18-129-000.

Applicants: Texas Eastern Transmission, LP.

Description: § 4(d) Rate Filing: Negotiated Rates—Colonial 911449 and 911450 to be effective 11/1/2017.

Filed Date: 11/1/17.

Accession Number: 20171101-5104.

Comments Due: 5 p.m. ET 11/13/17.

Docket Numbers: RP18-130-000.

Applicants: Algonquin Gas Transmission, LLC.

Description: § 4(d) Rate Filing: Negotiated Rates—BUG Ramapo releases 2 eff 11-1-2017 to be effective 11/1/2017.

Filed Date: 11/1/17.

Accession Number: 20171101-5105.

Comments Due: 5 p.m. ET 11/13/17.

Docket Numbers: RP18-131-000.

Applicants: Southern Star Central Gas Pipeline, Inc.

Description: § 4(d) Rate Filing: Vol. 2—Neg. and Non-Conforming Agreement—Tenaska Mktg Ventures—Amendment to be effective 11/1/2017.

Filed Date: 11/1/17.

Accession Number: 20171101-5106.

Comments Due: 5 p.m. ET 11/13/17.

Docket Numbers: RP18-132-000.

Applicants: Gulf South Pipeline Company, LP.

Description: § 4(d) Rate Filing: 2017 Fuel Tracker Filing to be effective 4/1/2018.

Filed Date: 11/1/17.

Accession Number: 20171101-5108.

Comments Due: 5 p.m. ET 11/13/17.

Docket Numbers: RP18-133-000.

Applicants: Gulf Crossing Pipeline Company LLC.

Description: § 4(d) Rate Filing: Establish Fuel Tracking Mechanism to be effective 4/1/2018.

Filed Date: 11/1/17.

Accession Number: 20171101-5110.

Comments Due: 5 p.m. ET 11/13/17.

Docket Numbers: RP18-134-000.

Applicants: Equitrans, L.P.

Description: § 4(d) Rate Filing: Negotiated Capacity Release Agreements—11/1/2017 to be effective 11/1/2017.

Filed Date: 11/1/17.

Accession Number: 20171101-5163.

Comments Due: 5 p.m. ET 11/13/17.

Docket Numbers: RP18-135-000.

Applicants: Columbia Gulf Transmission, LLC.

Description: § 4(d) Rate Filing: Negotiated Rate Service Amendments to be effective 11/1/2017.

Filed Date: 11/1/17.

Accession Number: 20171101-5164.

Comments Due: 5 p.m. ET 11/13/17.

Docket Numbers: RP18-136-000.

Applicants: Enable Gas Transmission, LLC.

Description: § 4(d) Rate Filing: Negotiated Rate Filing—November 2017 Weatherly Oil & Gas 1010414 to be effective 11/1/2017.

Filed Date: 11/1/17.

Accession Number: 20171101-5192.

Comments Due: 5 p.m. ET 11/13/17.

Docket Numbers: RP18-137-000.

Applicants: Enable Mississippi River Transmission, L.

Description: § 4(d) Rate Filing: MRT Housekeeping Filing Nov 2017 to be effective 12/4/2017.

Filed Date: 11/1/17.

Accession Number: 20171101-5219.

Comments Due: 5 p.m. ET 11/13/17.

Docket Numbers: RP18-138-000.

Applicants: Enable Gas Transmission, LLC.

Description: § 4(d) Rate Filing: Negotiated Rate Filing—November 2017 Chesapeake 1006966 & Spire 1005896 to be effective 11/1/2017.

Filed Date: 11/1/17.

Accession Number: 20171101-5243.

Comments Due: 5 p.m. ET 11/13/17.

Docket Numbers: RP18-139-000.

Applicants: Northern Natural Gas Company.

Description: § 4(d) Rate Filing: 20171101 Negotiated Rate to be effective 11/2/2017.

Filed Date: 11/1/17.

Accession Number: 20171101-5263.

Comments Due: 5 p.m. ET 11/13/17.

Docket Numbers: RP18-140-000.

Applicants: Alliance Pipeline L.P.

Description: § 4(d) Rate Filing: Direct Energy Relocation to be effective 11/1/2017.

Filed Date: 11/1/17.

Accession Number: 20171101-5275.

Comments Due: 5 p.m. ET 11/13/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2017.
Kimberly D. Bose,
Secretary.

[FR Doc. 2017-24581 Filed 11-13-17; 8:45 am]

BILLING CODE 6717-01-P